INTERNATIONAL TRADE COMMISSION

[USITC SE-24-017]

Sunshine Act Meetings

Agency Holding the Meeting: United States International Trade Commission.

TIME AND DATE: May 10, 2024 at 9:30 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-712-715 and 731-TA-1679-1682 (Preliminary) (Ferrosilicon from Brazil, Kazakhstan, Malaysia, and Russia). The Commission currently is scheduled to complete and file its determinations on May 13, 2024; views of the Commission currently are scheduled to be completed and filed on May 20, 2024.

5. Commission vote on Inv. No. 731-TA-860 (Fourth Review) (Tin- and Chromium-Coated Steel Sheet from Japan). The Commission currently is scheduled to complete and file its determination and views of the Commission on May 28, 2024.

6. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: May 1, 2024.
Sharon Bellamy,
Supervisory Hearings and Information Officer.

[FR Doc. 2024-09866 Filed 5-2-24; 11:15 am]

BILLING CODE 7020-02-P